SMALL BUSINESS ADMINISTRATION

[Disaster Declaration #14744 and #14745]

Texas Disaster Number TX-00472

AGENCY: U.S. Small Business Administration.

ACTION: Amendment 1.

SUMMARY: This is an amendment of the Presidential declaration of a major disaster for the State of Texas (FEMA-4272-DR), dated 06/11/2016.

Incident: Severe Storms and Flooding.

Incident Period: 05/26/2016 and continuing.

Effective Date: 06/22/2016.

Physical Loan Application Deadline Date: 08/10/2016.

Eidl Loan Application Deadline Date: 03/11/2017.

ADDRESSES: Submit completed loan applications to: U.S. Small Business Administration Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Texas, dated 06/11/2016 is hereby amended to include the following areas as adversely affected by the disaster:

Primary Counties: (Physical Damage and Economic Injury Loans):

Bastrop, Burleson, Eastland, Lee, Liberty, Stephens, Tyler.

Contiguous Counties: (Economic Injury Loans Only):

Texas: Angelina, Brown, Callahan, Chambers, Comanche, Hardin, Jasper, Jefferson, Milam, Shackelford, Throckmorton, Young.

All other information in the original declaration remains unchanged.

(Catalog of Federal Domestic Assistance Numbers 59002 and 59008)

James E. Rivera Associate,
Administrator for Disaster Assistance.

[FR Doc. 2016-15531 Filed 6-29-16; 8:45 am]

BILLING CODE 8025-01-P